DEPARTMENT OF THE INTERIOR

Bureau of Indian Affairs

Land Acquisitions; Picayune Rancheria of California

AGENCY: Bureau of Indian Affairs, Interior.

ACTION: Notice of final agency determination to take land into trust under 25 CFR part 151.

SUMMARY: The Principal Deputy Assistant Secretary—Indian Affairs made a final agency determination to acquire approximately 48.53 acres, of land into trust for the Picayune Rancheria of California on June 30, 2004. This notice is published in the exercise of authority delegated by the Secretary of the Interior to the Principal Deputy Assistant Secretary—Indian Affairs by 209 Departmental Manual 8.1.

FOR FURTHER INFORMATION CONTACT: George Skibine, Office of Indian Gaming Management, Bureau of Indian Affairs, MS-4543 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On June 30, 2004, the Principal Deputy Assistant Secretary—Indian Affairs decided to accept approximately 48.53 acres of land into trust for the Picayune Rancheria of California under the authority of the Indian Reorganization Act of 1934, 25 U.S.C. 465. The Picayune Rancheria was restored to federal recognition pursuant to the Hardwick Stipulation of Judgement (No. C-79-1710SW) for Madera County, filed on June 16, 1987. The Stipulation restored the exterior boundaries of the Rancheria and declared all lands within the boundaries as Indian Country. The 48.53 acres are located within the boundaries of the Rancheria.

The real property consists of 48.53 acres situated in Madera County, California. The legal description of the property is as follows:

Parcel 1:

That portion of the North half of the Northwest quarter of the Northeast quarter and the West half of the Northwest quarter of the Northeast quarter of the Northeast quarter of Section 29, Township 8 South, Range 21 East, Mount Diablo Base and Meridian, according to the official Plat thereof, lying Northeasterly of the Northeasterly line of a strip of land 50 feet in width conveyed to the County of Madera, State of California, for highway purposes by deed dated September 11, 1961 and recorded in Records of Madera County in Volume 808 of Official records at page 410.

Excepting therefrom: That portion of the Northeast quarter of Section 29, Township 8 South, Range 21 East, Mount Diablo Base and Meridian, according to the Official Plat thereof described as follows:

Beginning at the Southeast quarter corner of the West half of the Northwest quarter of the Northeast quarter of the Northeast quarter of said Section 29; thence West along the South line of the North half of the Northeast quarter of the North half of the Northeast quarter of said Section 580.8 feet; thence Northeasterly 600 feet, more or less, to a point in the East line of the West half of the Northwest quarter of the Northeast of the Northeast quarter of Section 29, located 150 feet North from the Southeast corner thereof; thence South 1,590 feet to the point of beginning.

Parcel 2:

All that portion of the South half of the Northwest quarter of the Northeast quarter and the West half of the Southwest quarter of the Northeast quarter of the Northeast quarter of Section 29, Township 8 South, Range 21 East, Mount Diablo Base and Meridian, according to the Official Plat thereof, lying North and Northeasterly of the North and Northeasterly boundary of County Road No. 417.

Parcel 3:

That portion of the Northeast quarter of Section 29, Township 8 South, Range 12 East, Mount Diablo Base and Meridian, according to the Official Plat thereof described as follows:

Beginning at the Southeast quarter of the West half of the Northwest quarter of the Northeast quarter of the Northeast quarter of said Section 29; thence West along the South line of the North half of the North half of the Northeast quarter of said Section 580.8 feet; thence Northeasterly 600 feet, more or less, to a point in the East line of the West half of the Northwest quarter of the Northeast quarter of Section 29, located 150 feet North from the Southeast corner thereof, thence South 150 feet to the point of beginning.

APN: 054-330-025 (Parcel 1) & 054-330-026 (Parcels 2 & 3) containing 27.49 acres, more or less.

Parcel “A”:

All that portion of the North half of the Northwest quarter of the Northeast quarter of Section 29, Township 8 South, Range 21 East, Mount Diablo Base and Meridian, according to the Official Plats thereof, lying Southwesterly of County Road No. 417.

APN: 054-330-015 (containing 3.92 acres, more or less).

Parcel “B”:

Parcel 1 of Parcel Map No. 1870, according to the map thereof, recorded August 21, 1981 in Book 27 of Maps, at page 182, Madera County Records.

APN: 054-330-031 (containing 5.92 acres more or less).

Parcel “C”:

Parcel 2 of Parcel Map No 1870, according to the map thereof, recorded August 21, 1981 in Book 27 of Maps, at page 182, Madera County Records.

APN: 054-330-032 (containing 5.92 acres, more or less).

Parcel “D”:

Parcel 3 of Parcel Map No. 1870, according to the map thereof, recorded August 21, 1982 in Book 27 of Maps, at page 182, Madera County Records.

APN: 054-330-033 (containing 5.28 acres, more or less).

Dated: July 1, 2004.
Aurene M. Martin,
Principal Deputy Assistant Secretary—Indian Affairs.

[FR Doc. 04-20731 Filed 9-14-04; 8:45 am]

BILLING CODE 4310-4N-P